DEPARTMENT OF TREASURY

Internal Revenue Service

Members of Senior Executive Service Performance Review Board

AGENCY: Internal Revenue Service (IRS), Treasury.

ACTION: Notice.

SUMMARY: The purpose of this notice is to publish the names of those IRS employees who will be serving as members on IRS' FY2004 SES Performance Review Board(s).

DATES: This notice is effective October 1, 2004.

FOR FURTHER INFORMATION CONTACT: Ann Pope, 1111 Constitution Avenue, NW., OS:HC:S, Room 3511, Washington, DC 20224, (202) 622-0601.

SUPPLEMENTARY INFORMATION: Pursuant to 5 U.S.C. 4314(c)(4), this notice announces the appointment of members of the Internal Revenue Service's Senior Executive Service Performance Review Board. The names and titles of the executives serving on this board follow:

John M. Dalrymple, Deputy Commissioner for Operations Support, and Chairperson, Service-wide Performance Review Board

Mark Matthews, Deputy Commissioner for Services and Enforcement

Evelyn A. Petschek, Chief of Staff

Tyrone B. Ayers, Director, Customer Assistance, Relationships and Education (W&I)

Beverly O. Babers, Chief Human Capitol Officer

Carol A. Barnett, Director, Human Resources (W&I)

Gary D. Bell, National Director, Refund Crimes (CI)

Brady R. Bennett, Director, Strategy and Finance (SBSE)

John E. Binnion, Associate CIO for Management & Finance (MITS)

Kevin M. Brown, Commissioner, Small Business & Self-Employed

C. John Crawford III, Director, Customer Account Services (SBSE)

Mary E. Davis, Director, Strategy and Finance (W&I)

James P. Falcone, Acting Director, Agency-wide Shared Services

Sherrill A. Fields, Deputy Director, Taxpayer Education & Communication (SBSE)

Fred L. Forman, Associate Commissioner for Business Systems Modernization (MITS)

Daniel Galik, Chief, Mission Assurance

W. Todd Grams, Chief Information Officer

Thelma Harris, Director, EEO and Diversity Field Services (AWSS)

Thomas R. Hull, Deputy Director, Compliance Field Operations (SBSE)

Nancy J. Jardini, Chief, Criminal Investigation

Frank Keith, Chief, Communications and Liaison

Henry O. Lamar, Jr., Commissioner, Wage and Investment

Terrence H. Lutes, Associate CIO for Information Technology Services (MITS)

Mark J. Mazur, Director, Research, Analysis & Statistics

Deborah M. Nolan, Commissioner, Large and Mid-Size Business

Steven T. Miller, Commissioner, Tax Exempt and Government Entities

Richard J. Morgante, Deputy Commissioner, Wage & Investment

Nina E. Olson, National Taxpayer Advocate

Eileen T. Powell, Chief Financial Officer

Ronald S. Rhodes, Director, Customer Account Services (W&I)

John M. Robinson, Chief, EEO and Diversity

David B. Robison, Chief, Appeals

Dwight J. Sparlin, Director, Operations Policy & Support (CI)

Richard Speier, Jr., Deputy Chief, Criminal Investigation (CI)

Richard Spires, Associate CIO for Modernization Management (MITS)

Linda E. Stiff, Deputy Commissioner, Small Business & Self-Employed

Chris Wagner, Deputy National Taxpayer Advocate

This document does not meet the Department of Treasury's criteria for significant regulations.

Dated: August 20, 2004.
John M. Dalrymyple,
Deputy Commissioner for Operations Support, Internal Revenue Service.

[FR Doc. 04-20059 Filed 9-1-04; 8:45 am]

BILLING CODE 4830-01-P